DEPARTMENT OF VETERANS AFFAIRS

Advisory Committee on the Readjustment of Veterans, Notice of Meeting

The Department of Veterans Affairs (VA) gives notice under the Federal Advisory Committee Act that a meeting of the Department of Veterans Advisory Committee on the Readjustment of Veterans will be held on Monday, March 16-Wednesday, March 18, 2020, at 811 Vermont Avenue (The Lafayette Building), Conference Room 3172/3174, Washington, DC 20420. The meeting sessions will begin and end as follows:

Date | Time
March 16, 2020 | 9:00 a.m. to 5:00 p.m. EST.
March 17, 2020 | 9:00 a.m. to 5:00 p.m. EST.
March 18, 2020 | 9:00 a.m. to 12:00 p.m. EST.

The meetings sessions are open to the public.

The Committee, comprised of 12 subject matter experts, advises the Secretary, through the VA Readjustment Counseling Service, on the provision by VA of benefits and services to assist Veterans in the readjustment to civilian life. In carrying out this duty, the Committee assembles, reviews, and assesses information relating to the needs of Veterans readjusting to civilian life and the effectiveness of VA services in assisting Veterans in that readjustment, specifically taking into account the needs of Veterans who served in combat theaters of operation.

On March 16, 2020, the agenda will include a training session regarding the roles and responsibilities of the individuals as Committee members, a review of the legislation which gave birth to the Committee, historical perspective, and welcoming remarks from VA officials on new and ongoing VA initiatives and priorities regarding this specific population of interest. On March 17, 2020, the agenda will include a report from the subcommittee on work accomplished in the past year, and additional remarks by VA officials on ongoing VA initiatives and priorities. On March 18, 2020, the morning will include planning session for the work to be accomplished during the course of the year.

No time will be allotted for receiving oral comments from the public; however, the public can submit written statements for the Committee's review to Ms. Sherry Moravy, Designated Federal Officer, Readjustment Counseling Service (10RCS), Department of Veterans Affairs, 1717 H Street NW, Washington, DC 20420, or by email at VHA10RCSAction@va.gov. Any member of the public wishing to attend the meeting or seeking additional information should contact Ms. Moravy at the phone number (734) 222-4319 or email address noted above.

Dated: February 11, 2020.
Jelessa M. Burney,
Federal Advisory Committee Management Officer.

[FR Doc. 2020-03086 Filed 2-14-20; 8:45 am]

BILLING CODE P